DEPARTMENT OF TRANSPORTATION

Federal Railroad Administration

[Docket No. FRA 2016-0002-N-17]

Proposed Agency Information Collection Activities; Comment Request

AGENCY: Federal Railroad Administration (FRA), U.S. Department of Transportation (DOT).

ACTION: Notice and request for comments.

SUMMARY: Under the Paperwork Reduction Act of 1995 (PRA) and its implementing regulations, FRA seeks approval of the proposed information collection activities described below. Before submitting the proposed information collection requests (ICRs) to the Office of Management and Budget (OMB) for approval, FRA is soliciting public comment on specific aspects of the activities, which are identified in this notice.

DATES: Comments must be received no later than November 22, 2016.

ADDRESSES: Submit written comments on any or all of the proposed activities by mail to either: Mr. Robert Brogan, Information Collection Clearance Officer, Office of Railroad Safety, Regulatory Analysis Division, RRS-21, Federal Railroad Administration, 1200 New Jersey Avenue SE., Mail Stop 25, Washington, DC 20590; or Ms. Kim Toone, Information Collection Clearance Officer, Office of Information Technology, RAD-20, Federal Railroad Administration, 1200 New Jersey Avenue SE., Mail Stop 35, Washington, DC 20590. Commenters requesting FRA to acknowledge receipt of their respective comments must include a self-addressed stamped postcard stating, “Comments on OMB Control Number 2130-XXXX,” and should also include the title of the collection of information. Alternatively, comments may be faxed to (202) 493-6216 or (202) 493-6497, or emailed to Mr. Brogan at Robert.Brogan@dot.gov, or to Ms. Toone at Kim.Toone@dot.gov. Please refer to the assigned OMB control number in any correspondence submitted. FRA will summarize comments received in response to this notice in a subsequent notice and include them in its information collection submission to OMB for approval.

FOR FURTHER INFORMATION CONTACT: Mr. Robert Brogan, Information Collection Clearance Officer, Office of Railroad Safety, Regulatory Analysis Division, RRS-21, Federal Railroad Administration, 1200 New Jersey Avenue SE., Mail Stop 25, Washington, DC 20590 (telephone: (202) 493-6292) or Ms. Kim Toone, Information Collection Clearance Officer, Office of Information Technology, RAD-20, Federal Railroad Administration, 1200 New Jersey Avenue SE., Mail Stop 35, Washington, DC 20590 (telephone: (202) 493-6132). (These telephone numbers are not toll free.)

SUPPLEMENTARY INFORMATION: The PRA, 44 U.S.C. 3501-3520, and its implementing regulations, 5 CFR part 1320, require Federal agencies to provide 60-days' notice to the public to allow comment on information collection activities before seeking OMB approval to implement them. 44 U.S.C. 3506(c)(2)(A); 5 CFR 1320.8(d)(1), 1320.10(e)(1), 1320.12(a). Specifically, FRA invites interested respondents to comment on the following summary of proposed information collection activities regarding: (1) Whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public by automated, electronic, mechanical, or other technological collection techniques or other forms of information technology (e.g., permitting electronic submission of responses). See 44 U.S.C. 3506(c)(2)(A), 5 CFR 1320.8(d)(1).

FRA believes soliciting public comment will promote its efforts to reduce the administrative and paperwork burdens associated with the collection of information Federal regulations mandate. In summary, FRA reasons that comments received will advance three objectives: (1) Reduce reporting burdens; (2) organize information collection requirements in a “user-friendly” format to improve the use of such information; and (3) accurately assess the resources expended to retrieve and produce information requested. See 44 U.S.C. 3501.

Below is a brief summary of the proposed ICRs that FRA will submit for OMB clearance as the PRA requires:

Title: Remotely Controlled Switch Operations.

OMB Control Number: 2130-0516.

Abstract: Upon notification of work to be performed on a track a remotely controlled switch provides access to, 49 CFR 218.30 and 218.77, require remotely controlled switch operators to ensure the switches are properly lined to protect workers vulnerable to being struck by moving cars as they inspect or service rolling equipment on the track or occupy camp cars on the track. FRA believes the required notifications promote safety by minimizing mental lapses of workers who are simultaneously handling several tasks. Sections 218.30 and 218.77 require operators of remotely controlled switches to maintain a record of each notification requesting Blue Signal Protection for 15 days. Operators of remotely controlled switches use the information as a record documenting Blue Signal Protection of workers or camp cars. This record also serves as a valuable resource for railroad supervisors and FRA inspectors monitoring regulatory compliance.

Type of Request: Extension of a currently approved collection.

Affected Public: Businesses.

Form Number(s): N/A.

Frequency of Submission: On occasion.

Respondent Universe: 763 railroads.

Reporting Burden
CFR section | Respondent universe | Total annual responses | Average time per response | Total annual burden hours
218.30—Blue signal protection of workmen | 70 railroads | 3,600,000 notifications | 1 minute | 60,000
218.77—Protection of occupied camp cars | 1 railroad | 575 notifications | 1 minute | 10

Total Estimated Responses: 3,600,575.

Total Estimated Annual Burden: 60,010 hours.

Status: Regular Review.

Title: Bad Order and Home Shop Card.

OMB Control Number: 2130-0519.

Abstract: Under 49 CFR part 215, railroads are required to inspect freight cars placed in service and take remedial action when defects are identified. Part 215 defects have a history of causing accidents or incidents by being inadvertently left in service when not properly tagged. A railroad freight car with a part 215 defect may be moved to another location for repair only after the railroad has complied with the process under 49 CFR 215.9. Section 215.9 requires railroads to affix a “bad order” tag describing each defect to each side of the freight car. It is imperative that a defective freight car be tagged “bad order” so it can be readily identified and moved to another location for repair purposes only. At the repair location, the “bad order” tag serves as a notification of the defective condition of the freight car. Railroads must retain each tag for 90 days to verify proper repairs were made at the designated location. When inspecting a freight car, FRA and State inspectors review all pertinent records to determine railroads' compliance with the movement restrictions of 49 CFR 215.9.

Type of Request: Extension of a currently approved collection.

Affected Public: Businesses.

Form Number(s): N/A.

Frequency of Submission: On occasion.

Respondent Universe: 763 railroads.

Reporting Burden
CFR section | Respondent universe | Total annual responses | Average time per response | Total annual burden hours
215.9—Movement of Defective Cars for Repair—Tagging | 763 railroads | 150,000 tags | 5 minutes | 12,500
Notifications of Removal of Defective Car Tags | 763 railroads | 75,000 notifications | 2 minutes | 2,500
215.11—Designated Inspectors—Records | 763 railroads | 45,000 records | 1 minute | 750

Total Estimated Responses: 270,000.

Total Estimated Annual Burden: 15,750 hours.

Status: Regular Review.

Title: Bad Order and Home Shop Card.

OMB Control Number: 2130-0520.

Abstract: 49 CFR 215.301 sets forth certain requirements for the stencilling of freight cars. Section 215.301 requires railroads and private car owners to stencil or otherwise display identification marks on railroad equipment.

Type of Request: Extension of a currently approved collection.

Affected Public: Businesses.

Form Number(s): N/A.

Frequency of Submission: On occasion.

Respondent Universe: 763 railroads.

Total Estimated Responses: 25,000 stencilled/repainted freight cars.

Total Estimated Annual Burden: 18,750 hours.

Status: Regular Review.

Title: Grade Crossing Signal System Safety Regulations.

OMB Control Number: 2130-0534.

Abstract: FRA believes highway-rail grade crossing (grade crossing) accidents resulting from warning system failures can be reduced. Accordingly, FRA's regulations require railroads to take specific responses if there is an activation failure—when a grade crossing warning system fails to indicate the arrival of a train at least 20 seconds before the train's arrival at the crossing or to indicate the presence of a train occupying the crossing. With this information, FRA can correlate accident data and equipment malfunctions with the types and ages of equipment. FRA can then identify the causes of activation failures and investigate them to determine whether periodic maintenance, inspection, and testing standards are effective.

Affected Public: Businesses.

Form Number(s): FRA F 6180.83.

Frequency of Submission: On occasion; record keeping.

Respondent Universe: 728 railroads.

Reporting Burden
CFR section | Respondent universe | Total annual responses | Average time per response | Total annual burden hours
234.7—Telephone Notification | 728 railroads | 8 phone calls | 15 minutes | 2
234.9—Grade crossing signal system failure reports | 728 railroads | 600 reports | 15 minutes | 150
234.105.106/107—Notification to train crew and highway traffic control authority | 728 railroads | 24,000 notifications | 15 minutes | 6,000
234.109—Record Keeping | 728 railroads | 12,000 records | 10 minutes | 2,000

Total Estimated Responses: 36,608.

Total Estimated Annual Burden: 8,152 hours.

Status: Regular Review.

Title: Bridge Worker Safety Rules.

OMB Control Number: 2130-0535.

Abstract: Title 49 U.S.C. 20139 requires FRA to issue rules, regulations, orders, and standards for the safety of maintenance-of-way employees on railroad bridges, including standards for “bridge safety equipment” such as nets, walkways, handrails, and safety lines, along with requirements for using vessels when work is performed on bridges located over bodies of water. Subpart B of 49 CFR part 214 establishes minimum workplace safety standards for railroad employees as they apply to railroad bridges. Specifically, 49 CFR 214.105(c) establishes standards and practices for safety net systems. Safety nets and net installations must be drop-tested at the job site after initial installation and before being used as a fall-protection system, after major repairs, and at 6-month intervals if left at one site. If a drop-test is not feasible and is not performed, then the railroad or railroad contractor, or a designated certified person, must provide written certification the net complies with the safety standards of 49 CFR 214.105. FRA and State inspectors use the information to enforce Federal regulations. The information maintained at the job site promotes safe bridge worker practices.

Under 44 U.S.C. 3507(a), and 5 CFR 1320.5(b) and 1320.8(b)(3)(vi), FRA informs all interested parties that it may not conduct or sponsor, and a respondent is not required to respond to, a collection of information unless a collection displays a currently valid OMB control number.

Authority: 44 U.S.C. 3501-3520.

Issued in Washington, DC, on September 20, 2016.
Patrick T. Warren,
Acting Executive Director.

[FR Doc. 2016-22941 Filed 9-22-16; 8:45 am]

BILLING CODE 4910-06-P